FEDERAL RETIREMENT THRIFT INVESTMENT BOARD

Sunshine Act; Notice of Meeting

Time and Date: 10 a.m. (Eastern Time), April 21, 2008.

Place: 4th Floor Conference Room, 1250 H Street, NW., Washington, DC 20005.

Status: Parts will be open to the public and parts closed to the public.

Matters To Be Considered: Parts Open to the Public

1. Approval of the minutes of the March 17, 2008 Board member meeting.

2. Thrift Savings Plan activity report by the Executive Director:

a. Recent Market Events and Counter-Party Risk in Securities Lending;

b. Monthly Participant Activity Report;

c. Legislative Report.

3. Quarterly Reports:

a. Investment Performance and Policy Review;

b. Vendor Financial Reports.

4. Additional Reports:

a. Financial Audit;

b. 2008 Board Meeting Calendar.

Parts Closed to the Public

5. Confidential Vendor Financial Data.

6. Procurement.

7. Personnel.

FOR FURTHER INFORMATION CONTACT: Thomas J. Trabucco, Director, Office of External Affairs, (202) 942-1640.

Dated: April 10, 2008.
Thomas K. Emswiler,
Secretary, Federal Retirement Thrift Investment Board.

[FR Doc. 08-1126 Filed 4-10-08; 9:26 am]

BILLING CODE 6760-01-P